DEPARTMENT OF THE TREASURY

Alcohol and Tobacco Tax and Trade Bureau

27 CFR Part 9

[Notice No. 18]

RIN: 1513-AA57

Proposed Chehalem Mountains Viticultural Area (2002R-214P)

AGENCY: Alcohol and Tobacco Tax and Trade Bureau (TTB), Treasury.

ACTION: Notice of proposed rulemaking.

SUMMARY: The Alcohol and Tobacco Tax and Trade Bureau (TTB) proposes to establish the Chehalem Mountains viticultural area located in Yamhill, Washington, and Clackamas Counties, Oregon. This proposed viticultural area is entirely within the approved Willamette Valley viticultural area. We designate viticultural areas to allow bottlers to better describe the origin of wines and allow consumers to better identify the wines they may purchase. We invite comments on this proposed addition to our regulations, particularly from bottlers who use brand names similar to Chehalem Mountains.

DATES: We must receive written comments on or before December 8, 2003.

ADDRESSES: You may send comments to any of the following addresses:

• Chief, Regulations and Procedures Division, Alcohol and Tobacco Tax and Trade Bureau, P.O. Box 50221, Washington, DC 20091-0221 (Attn: Notice No. 18).

• 202-927-8525 (facsimile).

• nprm@ttb.gov (e-mail).

• http://www.ttb.gov/alcohol/rules/index.htm. An online comment form is posted with this notice on our Web site.

You may view copies of this notice, the petition, the appropriate maps, and any comments received about this notice by appointment in our library, 1310 G Street, NW., Washington, DC 20005; phone 202-927-8210 for an appointment. You may also access copies of the notice and comments online at http://www.ttb.gov/alcohol/rules/index.htm.

See the Public Participation section of this notice for specific instructions and requirements for submitting comments and for information on how to request a public hearing.

FOR FURTHER INFORMATION CONTACT: N.A. Sutton, Specialist, Regulations and Procedures Division (Oregon), Alcohol and Tobacco Tax and Trade Bureau, 946 Northwest Circle Blvd., #286, Corvallis, OR 97330; telephone 415-271-1254.

SUPPLEMENTARY INFORMATION:

TTB Background

Background on Viticultural Areas

TTB Authority

The Federal Alcohol Administration Act (FAA Act) at 27 U.S.C. 205(e) requires that alcohol beverage labels provide the consumer with adequate information regarding a product's identity, while prohibiting the use of misleading information on such labels. The FAA Act also authorizes the Secretary of the Treasury to issue regulations to carry out its provisions, and the Secretary has delegated this authority to the Alcohol and Tobacco Tax and Trade Bureau.

Regulations in 27 CFR Part 4, Labeling and Advertising of Wine, allow the establishment of definitive viticultural areas and the use of their names as appellations of origin on wine labels and in wine advertisements. Title 27 CFR Part 9, American Viticultural Areas, contains the list of approved viticultural areas.

Definition

Title 27 CFR 4.25(e)(1) defines an American viticultural area as a delimited grape-growing region distinguishable by geographic features whose boundaries have been delineated in subpart C of part 9. These designations allow consumers and vintners to attribute a given quality, reputation, or other characteristic of wine made from grapes grown in an area to its geographic origin.

Requirements

Section 4.25(e)(2) outlines the procedure for proposing an American viticultural area. Any interested person may petition TTB to establish a grape-growing region as a viticultural area. The petition must include:

• Evidence that the proposed viticultural area is locally and/or nationally known by the name specified in the petition;

• Historical or current evidence that the boundaries of the proposed viticultural area are as specified in the petition;

• Evidence of growing conditions, such as climate, soils, elevation, physical features, etc., that distinguish the proposed area from surrounding areas;

• A description of the specific boundaries of the proposed viticultural area, based on features shown on United States Geological Survey (USGS) or USGS-approved maps; and

• Copies of the appropriate map(s) with the boundaries prominently marked.

Impact on Current Wine Labels

As appellations of origin, viticultural area names have geographic significance. Our 27 CFR part 4 label regulations prohibit the use of a brand name with geographic significance on a wine unless the wine meets the appellation of origin requirements for the named area. Our regulations also prohibit any other label references that suggest an origin other than the true place of origin of the wine.

If we establish this proposed viticultural area, bottlers who use brand names, including trademarks, like Chehalem Mountains must ensure that their existing products are eligible to use the viticultural area's name as an appellation of origin. For a wine to be eligible, at least 85 percent of the grapes in the wine must have been grown within the viticultural area, and the wine must meet the other requirements of 27 CFR 4.25(e)(3).

If a wine is not eligible for the appellation, the bottler must change the brand name or other label reference and obtain approval of a new label. Different rules apply if a wine in this category bearing a brand name traceable to a label approved prior to July 7, 1986. See 27 CFR 4.39(i) for details.

Chehalem Mountains Petition

We have received a petition from Alex Sokol-Blosser, secretary of the North Willamette Valley AVA Group proposing establishment of a new viticultural area to be called “Chehalem Mountains.” David Adelsheim, Paul Hart, and Richard Ponzi authored the petition. The proposed viticultural area is wholly within Oregon's Willamette Valley approved viticultural area. It is located toward the northern end of the valley and begins approximately 19 miles southwest of Portland, Oregon and 45 miles inland from the Pacific Ocean. It includes 106 square miles (67,840 acres) and straddles the boundary between Yamhill and Washington Counties and extends well into Clackamas County. As of 2002 at least 80 vineyards, totaling over 1,100 acres, plus 12 commercial wineries exist within the proposed boundaries of the Chehalem Mountains viticultural area, with more added each year.

The proposed Chehalem Mountains viticultural area constitutes a single, continuous landmass (measuring over 20 miles in length and 5 miles in width) uplifted above the floor of the Willamette Valley. The 200-foot elevation line generally defines the perimeter of the area, which consists of a series of ridges and highpoints, including two highly delineated spurs, Ribbon Ridge and Parrett Mountain. The petitioners decided to use physical features and elevation as the primary factors in defining the boundaries of the proposed area.

Name Evidence

The petitioners indicate the area is locally known as the Chehalem Mountains. They cite references that state the modern word “Chehalem” comes from the Indian name “Chahelim,” which is listed under the heading Atfalati (Tualatin) in the “Handbook of American Indians.” This name was given to the more than 20 bands of Indians living in the general vicinity of the Chehalem Mountains in the early 1800s.

Further, the petitioners state the word “Chehalem” appears to have entered the vocabulary of the early European settlers in the north Willamette Valley prior to 1840. A lumber mill was installed on Chehalem Creek in 1834, and in 1848 Joseph B. Rogers had the town of “Chehalem” platted on property he owned where Newberg, Oregon, stands today. The town had one of the earliest post offices in Yamhill County (established March 14, 1851), but the office closed within a year.

The petition supplies evidence that Chehalem has been used since that time to name a Parks and Recreation District, businesses (27 examples), housing developments, and public roads. The two public middle schools in the Newberg school district are named Chehalem Valley and Mountain View. Additionally, Chehalem has long been used in geographic names, such as Chehalem Creek, which runs through Chehalem Valley, which, in turn, forms the south side of the Chehalem Mountains. The entry for Chehalem Mountains in “Oregon Geographic Names” by Lewis L. McArthur reads, “These are the highest mountains in the Willamette Valley * * *. The Chehalem Mountains and some independent spurs extend from the Willamette River east of Newberg to the foothills of the Coast range south of Forest Grove, Oregon.”

The term “Chehalem Mountains” figures prominently on four of the six USGS quadrangle maps (Newberg, Oregon; Dundee, Oregon; Laurelwood, Oregon; and Scholls, Oregon) submitted with this petition. The petitioners state that the Chehalem Mountains (including the Parrett Mountain spur, the Ribbon Ridge spur, and multiple other named hills, peaks, and ridges, such as Laurel Ridge, Bald Peak, Iowa Hill, Spring Hill, and Fern Hill) constitute a single uplifted landmass easily distinguished from the surrounding valley floor areas. Further, they contend that the historical name “Chehalem Mountains” (plural) is meant to include hilltops, ridges, and spurs, even one as large as Parrett Mountain.

Boundary Evidence

The petitioners state they know of no previous attempts to define the exact boundaries of the Chehalem Mountains. However, the evidence submitted uses physical features and elevation as the primary factors in defining the boundaries of the proposed area, as well as historical information relating to viticultural activity.

The petition includes maps that show the Chehalem Mountains constitute a single, continuous landmass, uplifted above the floor of the Willamette Valley, which is delineated for much of the west side and all of the north side by the valley formed by the Tualatin River and its tributaries. On the east side, it is separated from the high ground around Tonquin by wetlands of Rock Creek and Seely Ditch. The southern boundaries are formed by the flood plain of the Willamette River in the east and by the Chehalem Valley in the west. The lowlands are all below the 200-foot level.

The petitioners used elevation, slope, and soil criteria in delineating the line between what constitutes “mountains” and what is “valley floor.” They state the foot of the Chehalem Mountains generally lies between 200 and 250 feet above sea level. Therefore, the petition includes all land in the area above the 200-foot level, with the exception of two highly urbanized areas located east and north of Newberg, Oregon, and west and south of Sherwood, Oregon. The proposed area excludes flat or barely sloping lands and includes hillsides. All hillside soils, whether marine, sediment, basaltic, loess, or, in some cases, alluvial (where it is found in hillside locations) are included in the proposed boundaries of the petitioned Chehalem Mountains viticultural area.

The petitioners also assert the Chehalem Mountains are made up of a series of ridges and highpoints that include two highly delineated spurs, Ribbon Ridge and Parrett Mountain, which are both heavily planted to vineyards. When drawn around the landmass of what is historically called the Chehalem Mountains, the 200-foot contour line encloses both the Ribbon Ridge and Parrett Mountain spurs.

Regarding historical evidence, the first modern vineyard on the Chehalem Mountains dates to 1968, when Dick Erath purchased 49 acres on Dopp Road in Yamhill County. He called the property Chehalem Mountain Vineyards and planted it the following spring.

Growing Conditions

The petitioners state that the proposed Chehalem Mountains viticultural area's boundaries are based primarily on a combination of terrain, elevation, and climate factors that contrast with the surrounding Willamette Valley, Coast Range, and Columbia Gorge.

Physical Features

The physical appearance of the Chehalem Mountains is the most significant geographical feature to distinguish them from surrounding areas. Due to their height and length (over 20 miles), the Chehalem Mountains are a significant landform in northern Willamette Valley. They can be seen from Portland's West Hills and from much of the northern Willamette Valley floor. They are the major separation between the basin of the Tualatin River and the Chehalem Valley.

The sometimes steep, sometimes gentle slopes of the Chehalem Mountains are highly differentiated from the almost flat Willamette Valley floor. In some areas (the west side of Ribbon Ridge and the southeast side of Parrett Mountain), the slope of the Mountains descends steeply, then suddenly becomes almost level, making the transition from Mountains to valley floor instantaneous and incontrovertible. However, for the majority of its perimeter, the slopes of the Chehalem Mountains shift more gradually to gentle slopes, then finally to the valley floor. The petitioners used the elevation/slope/soil criteria to determine the boundary lines in areas where the distinction is not as obvious.

Elevation

The Chehalem Mountains are the highest mountains within the Willamette Valley. Their tallest point is Bald Peak, which lies 7 miles northwest of Newberg and rises to 1,633 feet above sea level. The valley floors, surrounding the Mountains on all sides, drop below 200 feet. The 200-foot contour line completely encircles the Chehalem Mountains and clearly differentiates the Mountains from the valley. The petitioners state that these elevation differences are significant in distinguishing the Chehalem Mountains from the surrounding areas. Most of the existing vineyards in the proposed viticultural area are located between the 200- to 1,000-foot elevation lines. The petitioners assert that the areas below the 200-foot level have alluvial soils with greater depth, fertility, and water-holding capacity, which extend the growing period of the vine and delay the ripening of vineyards reds, as well as result in greater exposure to frost. Therefore, the alluvial soils on the valley floor are not included in the proposed boundaries.

Climate

The petitioners state that the element of climate that best distinguishes the Chehalem Mountains is annual precipitation. Since they are the highest mountains in the Willamette Valley, they provide the largest obstacle to eastward moving storms. As the moist air is forced over the Chehalem Mountains, the water vapor in the cooling air condenses and falls to earth as terrain-induced rain. According to data obtained from the “Atlas of Oregon,” second edition (University of Oregon Press, 2001), annual rainfall within the boundaries of the proposed viticultural area ranges from 37 inches at the lowest point to almost 60 inches at the highest elevations on Bald Peak. This is in contrast to Hillsboro and Beaverton just north of the Chehalem Mountains and French Prairie just south of the Mountains with the lowest annual precipitation in the Willamette Valley—under 36 inches. The annual average rainfall for the Portland International Airport, located east of the proposed area, is 36 inches while the Coast Range, located west of the Chehalem Mountains, has an average of over 100 inches of rain per year.

The other uplifted hills in the Willamette Valley have somewhat higher rainfall levels than the surrounding valley floor (for example, Eola Hills has 40 to 48 inches and Red Hills has 40 to 44 inches), but none so dramatic as the Chehalem Mountains.

The petitioners also state that the Chehalem Mountains have the greatest variation in temperature within the Willamette Valley due to the range in elevation (200 to 1,633 feet). According to data obtained from the Oregon Climate Service, heat summation during the growing season varies from over 2,200 degree-days at the base of the south side of the Mountains to less than 1,800 degree-days on the north side of the top of the Mountains. These variations can result in three-week differences in the ripening of Pinot Noir grapes. Evapotranspiration (the loss of water from soil and plants by a combination of evaporation and transpiration) is about 3 inches less on the higher parts of the Chehalem Mountains compared to the surrounding valleys, mostly due to temperature differences.

Soil

The petitioners state that, in general, the proposed area contains a combination of loess, sedimentary, basaltic, and alluvial soils. These were deposited over a 17-million-year period through a series of events that included uplifting of the mountains from the shallow waters of the Pacific Ocean, huge eruptions of basaltic lava from the Columbia River Basalt Group, wind blowing silt from Eastern Oregon and Washington, and alluvial deposition from the Missoula Flood.

The diverse soils contained in the proposed Chehalem Mountains viticulture area have yielded successful vineyards since 1968. Much of the Ribbon Ridge spur is covered by sedimentary soil (Willakenzie Series) and is heavily planted to red wine grapes. The central and southern Chehalem Mountains also contain large deposits of basaltic soils (mainly Jory Series) that contain many vineyards of white grapes, as well as extensive plantings of Pinot Noir. The Laurelwood Series of the loess soils also covers much of the central Chehalem Mountains.

However, the petitioners assert that soil does not distinguish the Chehalem Mountains from the surrounding hill formations. The sedimentary western flank of the Mountains has soils that are much like those further to the west in the hills surrounding the Yamhill River Basin. The basaltic-origin soils along much of the southern slope and the Parrett Mountains spur are similar to the soils further south on the Red Hills and the east side of the Eola Hills. The eolian soils on most of the north side of the Mountains are much like those on the hills further north and east in the Tualatin basin (e.g., Cooper and Bull Mountains). All the alluvial soils at the base of the Chehalem Mountains are much like those of the surrounding valley flood plains. The petitioners contend that the soils contained in the proposed viticultural area are not what make it unique. Rather, geographic features other than soil are what strongly differentiate the Chehalem Mountains from the surrounding valley floors and from the surrounding hill formations.

Boundary Description

See the narrative boundary description of the petitioned viticultural area in the proposed regulation published at the end of this notice.

Maps

The petitioner provided the required maps, and we list them in the proposed regulations.

Public Participation

Comments Sought

We request comments from anyone interested. Please support your comments with specific information about the proposed area's name, growing conditions, or boundaries. All comments must include this notice number and your name and mailing address. They must be legible and written in language acceptable for public disclosure.

Because of the potential impact of a Chehalem Mountains viticultural area on current brand names that include “Chehalem,” we are particularly interested in comments regarding the proposed area's name. Are there other names for this area that would not conflict with current brand names? We are also interested in suggestions for preventing conflicts between viticultural area names and brand names of geographic significance, as discussed above under “Impact on Current Wine Labels.”

Although we do not acknowledge receipt, we will consider your comments if we receive them on or before the closing date. We will consider comments received after the closing date if we can. We regard all comments as originals.

Confidentiality

We do not recognize any submitted material as confidential. All comments are part of the public record and subject to disclosure. Do not enclose in your comments any material you consider confidential or inappropriate for public disclosure.

Submitting Comments

You may submit comments in any of four ways:

• By mail: You may send written comments to TTB at the address listed in the ADDRESSES section.

• By facsimile: You may submit comments by facsimile transmission to 202-927-8525. Faxed comments must—

(1) Be on 8.5- by 11-inch paper;

(2) Contain a legible, written signature; and

(3) Be five or less pages long. This limitation assures electronic access to our equipment. We will not accept faxed comments that exceed five pages.

• By e-mail: You may e-mail comments to nprm@ttb.gov. Comments transmitted by electronic mail must—

(1) Contain your e-mail address;

(2) Reference this notice number on the subject line; and

(3) Be legible when printed on 8.5- by 11-inch paper.

• By online form: We provide a comment form with the online copy of this notice on our Web site at http://www.ttb.gov/alcohol/rules/index.htm. Select the “Send comments via e-mail” link under this notice number.

You may also write to the Administrator before the comment closing date to ask for a public hearing. The Administrator reserves the right to determine, in light of all circumstances, whether a public hearing will be held.

Public Disclosure

You may view copies of this notice, the petition, the appropriate maps, and any comments received by appointment in our library at 1310 G Street, NW., Washington, DC 20005. You may also obtain copies at 20 cents per 8.5- x 11-inch page. Contact us at the above address or telephone 202-927-8210 to schedule an appointment or to request copies of comments.

For your convenience, we will post this notice and the comments received on the TTB Web site. We may omit voluminous attachments or material that we consider unsuitable for posting. In all cases, the full comment will be available in our library. To access the online copy of this notice, visit at http://www.ttb.gov/alcohol/rules/index.htm. Select the “View Comments” link under this notice number to view the posted comments.

Regulatory Analyses and Notices

Paperwork Reduction Act

We propose no requirement to collect information. Therefore, the provisions of the Paperwork Reduction Act of 1995, 44 U.S.C. 3507, and its implementing regulations, 5 CFR part 1320, do not apply.

Regulatory Flexibility Act

We certify that this regulation, if adopted, will not have a significant economic impact on a substantial number of small entities, including small businesses. The proposal imposes no new reporting, recordkeeping, or other administrative requirements.

The establishment of viticultural areas represents neither our endorsement nor approval of the quality of wine made from grapes grown in the designated areas. Rather, this system allows us to identify areas distinct from one another. In turn, identifying viticultural areas lets wineries describe more accurately the origin of their wines to consumers and helps consumers identify the wines they purchase. Thus, any benefit derived from using a viticultural area name results from a proprietor's efforts and consumer acceptance of wines from that area. Therefore, no regulatory flexibility analysis is required.

Executive Order 12866

This proposed rule is not a “significant regulatory action” as defined by Executive Order 12866. Therefore, no regulatory assessment is required.

Drafting Information

B. J. Kipp of the Regulations and Procedures Division (Portland, Oregon) drafted this notice.

List of Subjects in 27 CFR Part 9

Wine.

Authority and Issuance

For the reasons discussed in the preamble, we propose to amend title 27, chapter 1, part 9, Code of Federal Regulations, as follows:

PART 9—AMERICAN VITICULTURAL AREAS

1. The authority citation for part 9 continues to read as follows:

Authority: 27 U.S.C. 205.

2. Subpart C is amended by adding Section 9._ to read as follows:

Subpart C—Approved American Viticultural Areas

* * * * *

§ 9.__ Chehalem Mountains

(a) Name. The name of the viticultural area described in this section is “Chehalem Mountains”.

(b) Approved Maps. The six, 1:24,000 scale, USGS, topographic maps used to determine the boundaries of the Chehalem Mountains viticultural area are titled:

(1) Newberg Quadrangle, Oregon, 7.5 Minute Series, 1961 (photorevised 1985);

(2) Dundee Quadrangle, Oregon, 7.5 Minute Series, 1956 (revised 1993);

(3) Laurelwood Quadrangle, Oregon, 7.5 Minutes Series 1956 (revised 1992);

(4) Scholls Quadrangle, Oregon, 7.5 Minute Series, 1961 (photorevised 1985);

(5) Beaverton Quadrangle, Oregon, 7.5 Minute Series, 1961 (photorevised 1984); and

(6) Sherwood Quadrangle, Oregon, 7.5 Minute Series, 1961 (photorevised 1985).

(c) Boundary. The Chehalem Mountains viticultural area is located in Yamhill, Washington, and Clackamas Counties, Oregon. The area's boundaries are defined as follows:

(1) The point of beginning (Newberg Quadrangle) is in Yamhill County, section 15, R2W, T3S, and 3 miles east of the city of Newberg where the 250-foot contour line crosses Oregon highway 99W, as that highway ascends the Chehalem Mountains;

(2) Proceed northwest 0.7 miles along the 250-foot contour line until that line crosses Benjamin Road (shown but unnamed on Newberg Quadrangle);

(3) Proceed west 0.5 miles along Benjamin Road across the railroad tracks until it intersects with Spring Brook Road (also unnamed);

(4) Proceed southwest 0.3 miles along Spring Brook Road (parallel to railroad tracks) to its intersection with Mountainview Drive (unnamed);

(5) Proceed west 0.35 miles on Mountainview Drive to its intersection with the unnamed Aspen Way;

(6) Proceed north and west on Aspen Way 1.2 miles to its intersection with Bell Road;

(7) Proceed west 0.3 miles to the end of Bell Road at intersection with Oregon highway 219;

(8) Proceed west across highway 219 on North Valley Road (which was Bell Road) 0.45 miles to the intersection with the 250-foot contour line;

(9) Proceed northwest 1.2 miles along the 250-foot contour line to the western edge of the Newberg Quadrangle;

(10) Proceed south 0.05 miles along the western edge of the Newberg Quadrangle, section 42, R3W, T3S, to the intersection with the 240-foot contour line;

(11) Continue onto the Dundee Quadrangle map, section 42, R3W, T3S and proceed west 2.15 miles along the 240-foot contour line to where the line crosses the unnamed Sullivan Lane (that lane is east of and parallel to Calkins Lane);

(12) Proceed south along Sullivan Lane 0.25 miles to the intersection with North Valley Road;

(13) Proceed west along North Valley Road 0.1 miles to the intersection with the 200-foot contour line;

(14) Proceed northwest along the 200-foot contour 0.9 miles to a point where the contour line crosses an unnamed creek that parallels Dopp Road;

(15) Proceed north along the creek 0.03 miles to the intersection with Dopp Road;

(16) Proceed north along Dopp Road to the intersection with the 240-foot contour line;

(17) Proceed along the 240-foot contour line, first north, then south, then west, then north to a point 2.9 miles northwest, where the contour line hits the north edge of the map. (This section coincides with the southeast, southwest, and north boundaries of the concurrently proposed Ribbon Ridge American viticultural area.);

(18) Continue onto the Laurelwood Quadrangle, section 58, R3W, T2S and proceed generally north along the 240-foot contour line 7.5 miles to where the contour line crosses Sandstrom Road;

(19) Proceed west 0.15 miles on Sandstrom Road to its third intersection with the 200-foot contour line, just prior to Spring Hill Road;

(20) Proceed northwest, then northeast, and southeast 2.7 miles along the 200-foot contour line around Fern Hill and Blooming Hill Roads to where it crosses La Follette Road;

(21) Proceed south 0.2 miles on La Follette Road to its intersection with the 240-foot contour line;

(22) Proceed generally south, then east 4 miles along the 240-foot contour line to the eastern edge of the Laurelwood Quadrangle;

(23) Continue on the western edge of the Scholls Quadrangle, section 25, R3W, T1S, (0.45 miles south of Simpson Road) and proceed south 0.5 miles along the 240-foot contour line, through a crescent shape to the western edge of the Scholls Quadrant;

(24) Continue on the Laurelwood Quadrangle in the southeast corner of section 25, R3W, T1S and proceed along the 240-foot contour line west and then south 2.3 miles to where it crosses Laurel Road West;

(25) Proceed east along Laurel Road West 0.1 miles to its intersection with the 200-foot contour line;

(26) Proceed southwest and then east along the 200-foot contour line around the Burris Creek Valley to the eastern edge of the Laurelwood Quadrangle in the northeast corner of section 12, R3W, T2S;

(27) Continue on the western edge of Scholls Quadrangle, section 12, R3W, T2S, 0.13 miles south of Laurel Road West and proceed along the 200-foot contour line generally southeast, skirting the valley of McFee Creek for 4.2 miles to the valley of Heaton Creek, to the southern edge of the Scholls map;

(28) Continue on the northern edge of the Newberg Quadrangle, section 28, R2W, T2S and proceed along the 200-foot contour line south in a brief U-shaped formation for 0.1 miles, then north back to the northern edge of the Newberg Quadrangle;

(29) Continue on Scholls Quadrangle, section 21, R2W, T2S and proceed along the 200-foot contour line generally northeast for 3.25 miles around Laurel Ridge to the southeastern edge of the Scholls Quadrangle;

(30) Continue on the Beaverton Quadrangle, section 24 R2W, T2S, 0.8 miles north of Lebeau Road and proceed along the 200-foot contour line southeast for 1 mile to the southern edge of the map, section 19, R1W, T2S.

(31) Continue onto the Sherwood Quadrangle, section 30, R1W, T2S, 0.1 miles east of Elwert Road, proceed west 0.55 miles to the northwestern edge of the Sherwood Quadrangle, and then proceed 0.05 miles across the most southwestern edge of the Beaverton Quadrangle;

(32) Continue onto Scholls Quadrangle in the southeast corner of section 24, R2W, TS2 and proceed west then southeast along the 200-foot contour line around the north fork of Chicken Creek to the southeast corner of the map;

(33) Continue onto the Newberg Quadrangle, section 25, R2W, TS2 (0.2 miles from the northeast corner of the map) and proceed along the 200-foot contour line until it exits the eastern edge of the map, 0.25 miles south of the northeast corner;

(34) Continue onto the Sherwood Quadrangle, section 25, R2W, T2S and proceed along the 200-foot contour line (0.25 miles south of the map's northwest corner) around the south fork of Chicken Creek to the western edge of the map, 0.3 miles south;

(35) Continue on the Newberg Quadrangle, section 25, R2W, T2S (0.55 miles south of the map's northeast corner and proceed along the 200-foot contour line around the Chicken Creek lowlands to the eastern edge of the map, 0.25 miles south of where it entered;

(36) Continue on the Sherwood Quadrangle, section 25, R2W, T2S (0.8 miles south of the map's northwest corner and proceed generally east 0.4 miles to Elwert Road;

(37) Proceed south on Elwert Road 0.85 miles to its intersection with Oregon highway 99W;

(38) Proceed south by southwest along highway 99W 0.45 miles across the north fork of Cedar Creek to the intersection of highway 99W and the 250-foot contour line;

(39) Proceed generally south along the 250-foot contour line 0.6 miles to its intersection with Middleton Road;

(40) Proceed southwest on Middleton Road 0.3 miles to the point where it becomes Rein Road;

(41) Proceed south on Rein Road 0.15 miles across Cedar Creek to the intersection of Rein Road and the 200-foot contour line;

(42) Proceed generally east along the 200-foot contour line 1.2 miles to its intersection with Brookman Road (shown but unnamed on map);

(43) Proceed on Brookman Road 0.35 miles east, then north 0.25 miles, then east 0.15 miles (paralleling the Clackamas/Washington County lines);

(44) Proceed east 0.85 miles across Ladd Hill Road and continue along the Clackamas/Washington County lines to the intersection with Baker Road (shown as Brown Road on the map);

(45) Now in Clackamas County, proceed along Baker Road south by southeast 1 mile to the second intersection with the 250-foot contour line;

(46) Proceed along the 250-foot contour line in a semicircle, first east, then southeast, then southwest and return to Baker Road;

(47) Proceed south along Baker Road 0.15 miles to its intersection with the 200-foot contour line;

(48) Proceed along the 200-foot contour line in a generally southwest direction 4.45 miles along the southwestern flank of the Parrett Mountain spur of the Chehalem Mountains to the western edge of the map;

(49) Continue on the Newberg Quadrangle, section 76, R2W, T4S, 0.3 miles north of the north bank of the Willamette River and proceed along the 200-foot contour line west by northwest 1.1 miles to the intersection with Wilsonville Road;

(50) Proceed northwest, then north 1.9 miles across an unnamed tributary creek of Spring Brook;

(51) Proceed along the unnamed tributary 0.25 miles in a south by southwest direction to the intersection with the 200-foot contour line;

(52) Proceed along the base of Grouse Butte, following the 200-foot contour line to a point 0.45 miles northwest to the intersection of the contour line and Wilsonville Road;

(53) Proceed east along Wilsonville Road 0.45 miles back to the intersection of the road with an unnamed tributary creek of Spring Brook;

(54) Proceed northeast along the unnamed tributary creek of Spring Brook 0.05 miles to the intersection with the 250-foot contour line;

(55) Proceed generally north along the 250-foot contour line 1.4 miles to its intersection with Corral Creek Road (misnamed Ladd Hill Road on the Newberg Quadrangle); and

(56) Proceed north along Corral Creek Road 0.6 miles to the intersection with Oregon highway 99W, which is the point of beginning.

Signed: September 17, 2003.
Arthur J. Libertucci,
Administrator.

[FR Doc. 03-25372 Filed 10-6-03; 8:45 am]

BILLING CODE 4810-31-P